NATIONAL SCIENCE FOUNDATION

Committee on Equal Opportunities in Science and Engineering (CEOSE); Notice of Meeting

In accordance with the Federal Advisory Committee Act (Pub. L. 92-463, as amended), the National Science Foundation announces the following meeting:

Name: Committee on Equal Opportunities in Science and Engineering (1173).

Dates/Time: October 17, 2011, 9 a.m.-5:30 p.m. October 18, 2011, 9 a.m.-2:00 p.m.

Place: National Science Foundation (NSF), 4201 Wilson Boulevard, Arlington, VA 22230.

To help facilitate your entry into the building, contact the individual listed below. Your request to attend this meeting must be received by e-mail (mtolbert@nsf.gov) on or prior to October 14, 2011.

Type of Meeting: Open.

Contact Person: Dr. Margaret E.M. Tolbert, Senior Advisor and CEOSE Designated Federal Officer, Office of Integrative Activities, National Science Foundation, 4201 Wilson Boulevard, Arlington, VA 22230.

Telephone Numbers: (703) 292-4216, 703-292-8040 mtolbert@nsf.gov.

Minutes: Meeting minutes and other information may be obtained from the Senior Advisor and CEOSE Designated Federal Officer at the above address or the Web site at http://www.nsf.gov/od/oia/activities/ceose/index.jsp.

Purpose of Meeting: To study data, programs, policies, and other information pertinent to the National Science Foundation and to provide advice and recommendations concerning broadening participation in science and engineering.

Agenda:

Monday, Oct 17, 2011

Opening Statement by the CEOSE Chair

Presentations and Discussions:

• Concurrence on the CEOSE Minutes of the June 13-14, 2011 Meeting.

• Presentation of Key Points from the Meeting among the National Science Foundation Director and CEOSE officers.

• Discussion of the Process for the Selection of CEOSE Members, Status of Inter-Agency collaboration on Broadening Participation, and Introduction of Federal CEOSE Liaisons.

• Appointment of CEOSE Officers, Subcommittee Members, and CEOSE Liaisons to NSF Advisory Committees.

• Plans for the Mini-Symposium on the Science of Broadening Participation.

• Beginning the Discussion on Potential Efficiencies for SESTAT.

• A Conversation with Dr. Cora B. Marrett, Deputy Director of the National Science Foundation.

• Broadening Participation Activities of Two NSF Directorates: (1) Directorate for Computer and Information Science and Engineering, and (2) Directorate for Biological Sciences.

• Discussions on Various Diversity and Inclusion Topics by Federal Agency Liaisons to CEOSE.

Tuesday, October 18, 2011

Opening Statement by the CEOSE Chair Presentations, Discussions, and Reports:

• Broadening Participation Activities in EHR: Focus on Research on Gender and the Education of Persons with Disabilities.

• Broadening Participation in the STEM Enterprise: The NSF Role.

• Accomplishments of NSF in Response to Management Directive 715.

• Briefing on the Development of Pilot Activities for Enhancements to the Merit Review Process.

• Reports by CEOSE Liaisons to NSF Advisory Committees.

• Discussion of CEOSE Unfinished and New Business.

Dated: September 6, 2011.
Susanne Bolton,
Committee Management Officer.

[FR Doc. 2011-23069 Filed 9-8-11; 8:45 am]

BILLING CODE 7555-01-P